DEPARTMENT OF JUSTICE

[OMB Number 1140-0090]

Agency Information Collection Activities; Proposed eCollection; eComments Requested; Revision of a Previously Approved Collection; National Firearms Act (NFA)—Special Occupational Taxes (SOT)—ATF Form 5630.7

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until September 18, 2023.

FOR FURTHER INFORMATION CONTACT: If you have additional comments especially on the estimated public burden or associated response time, suggestions, or need a copy of the proposed information collection instrument with instructions or additional information, contact: Melissa Mason, National Firearms Act Division, Government Support Branch, Needy Road, Suite: NFA, Martinsburg, WV 25405, either by mail at mailing address, by email at NFAOMBCOMMENTS@ATF.GOV, or telephone at 304-616-4500.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: ATF has been collecting Special Occupational Taxes (SOT) under the National Firearms Act (NFA) (title 26, U.S.C. chapter 53). Firearms dealers, manufacturers, and importers must pay this tax in order to conduct multiple transfers of specified weapons (such as machine guns) within the tax year. The Information Collection (IC) OMB 1140-0090 is being revised due to the removal of the previously corresponding ATF Forms 5630.5R and 5630.5RC. These forms will no longer be required going forward. ATF Form 5630.7 will be the only form necessary to fulfill the requirement for this IC.

Overview of This Information Collection

1. Type of Information Collection: Revision of a previously approved collection.

2. The Title of the Form/Collection: National Firearms Act (NFA)—Special Occupational Taxes (SOT).

3. The agency form number, if any, and the applicable component of the Department sponsoring the collection: Form number: ATF Form 5630.7. Component: Bureau of Alcohol, Tobacco, Firearms and Explosives, U.S. Department of Justice.

4. Affected public who will be asked or required to respond, as well as the obligation to respond: Business or other for-profit entity. The obligation to respond is mandatory per title 26,U.S.C. 5801, chapter 53.

5. An estimate of the total number of respondents and the amount of time estimated for an average respondent to respond: An estimated 16,659 respondents will respond to this collection once annually, and it will take each respondent approximately 15 minutes to complete their responses.

6. An estimate of the total annual burden (in hours) associated with the collection: The estimated annual public burden associated with this collection is 4,164 hours, which is equal to 16,659 (total respondents) * 1 (# of response per respondent) * .25 (15 minutes).

7. An estimate of the total annual cost burden associated with the collection, if applicable: The estimated cost for all 16,659 respondents to mail the SOT form (ATF Form 5630.7) is $.63 per person. Therefore the public cost associated with this IC is $10,495.

Total Burden Hours
Activity | Number of respondents | Frequency | Total annual responses | Time per response (min) | Total annual burden (hours)
ATF Form 5630.7 | 16,659 | 1/annually | 16,659 | 15 | 4,164

If additional information is required contact: Darwin Arceo, Department Clearance Officer, United States Department of Justice, Justice Management Division, Policy and Planning Staff, Two Constitution Square, 145 N Street NE, 4W-218, Washington, DC.

Dated: July 14, 2023.
Darwin Arceo,
Department Clearance Officer for PRA, U.S. Department of Justice.

[FR Doc. 2023-15411 Filed 7-19-23; 8:45 am]

BILLING CODE 4410-14-P